DEPARTMENT OF COMMERCE

International Trade Administration

[A-588-702, A-580-813, and A-583-816]

Continuation of Antidumping Duty Orders: Certain Stainless Steel Butt-Weld Pipe and Tube Fittings From Japan, South Korea, and Taiwan.

AGENCY: Import Administration, International Trade Administration, Department of Commerce.

ACTION: Notice of continuation of antidumping duty orders: certain stainless steel butt-weld pipe and tube fittings from Japan, South Korea, and Taiwan.

SUMMARY: On February 4, 1999, the Department of Commerce (“the Department”), pursuant to sections 751(c) and 752 of the Tariff Act of 1930, as amended (“the Act”), determined that revocation of the antidumping duty orders on certain stainless steel butt-weld pipe and tube fittings (“pipe and tube fittings”) from Japan, South Korea (“Korea”), and Taiwan is likely to lead to continuation or recurrence of dumping (65 FR 5604). On February 24, 2000, the International Trade Commission (“the Commission”), pursuant to section 751(c) of the Act, determined that revocation of the antidumping duty orders on pipe and tube fittings from Japan, Korea, and Taiwan would be likely to lead to continuation or recurrence of material injury to an industry in the United States within a reasonably foreseeable time (65 FR 9298). Therefore, pursuant to 19 CFR 351.218(f)(4), the Department is publishing notice of the continuation of the antidumping duty orders on pipe and tube fittings from Japan, Korea, and Taiwan.

EFFECTIVE DATE: March 6, 2000.

FOR FURTHER INFORMATION CONTACT: Mark D. Young or Melissa G. Skinner, Office of Policy for Import Administration, International Trade Administration, U.S. Department of Commerce, 14th Street and Constitution Ave., NW, Washington, DC 20230; telephone: (202) 482-6397 or (202) 482-1560, respectively.

SUPPLEMENTARY INFORMATION:

Background

On July 1, 1999, the Department initiated, and the Commission instituted, sunset reviews of the antidumping duty orders on pipe and tube fittings from Japan, Korea, and Taiwan pursuant to section 751(c) of the Act (64 FR 35588 and 64 FR 35691, respectively). As a result of its reviews, the Department found that revocation of the antidumping duty orders would likely lead to continuation or recurrence of dumping and notified the Commission of the magnitude of the margins likely to prevail were the orders to be revoked (See Final Results of Expedited Sunset Reviews: Certain Stainless Steel Butt-Weld Pipe and Tube Fittings From Japan, South Korea, and Taiwan, 65 FR 5604 (February 4, 2000).

On February 24, 2000, the Commission determined, pursuant to section 751(c) of the Act, that revocation of the antidumping duty orders on pipe and tube fittings from Japan, Korea, and Taiwan would be likely to lead to continuation or recurrence of material injury to an industry in the United States within a reasonably foreseeable time (See Certain Stainless Steel Butt-Weld Pipe and Tube Fittings From Japan, South Korea, and Taiwan, 65 FR 9298 (February 24, 2000) and USITC Pub. 3263, Investigations Nos. 731-TA-376, 563, and 564 (Review) (February 2000).

Scope

The products covered by these orders include certain stainless steel butt-weld pipe and tube fittings. These fittings are used in piping systems for chemical plants, pharmaceutical plants, food processing facilities, waste treatment facilities, semiconductor equipment applications, nuclear power plants and other areas. The subject merchandise are currently classifiable under the Harmonized Tariff Schedule of the United States (“HTSUS”) item number 7307.23.00.00. The HTSUS item number is provided for convenience and customs purposes. The written description remains dispositive.

With respect to the order on subject imports from Japan and Taiwan, the Department has made several scope rulings. The following products were determined to be within the scope of the orders:

Product within scope | Importer | Citation
Superclean or ultraclean pipe fittings from Japan | Benkan Corporation | 56 FR 1801 (January 17, 1991).
A774 type stainless steel pipe fittings from Taiwan | Tachia Yung Ho | 58 FR 28556 (May 14, 1993).
Cast butt-weld pipe fittings from Taiwan | Eckstrom Industries | Eckstrom Ind. v. United States, Court No. 97-10-01913, Slip. Op,. 99-99 (Ct. Int'l Trade Sept. 20, 1999).¹
¹ The Court of International Trade affirmed Commerce decision that cast butt-weld pipe fittings are within the scope of the order. We note, however, that on November 18, 1999, Eckstrom appealed this decision to the Court of Appeals for the Federal Circuit, Case no. 00-1117. That appeal is currently pending.

The following products were determined to be outside the scope of the orders:

Product outside scope | Importer | Citation
Certain gasket raised face seal sleeves and certain stainless steel “fine-fit” tube fittings imported from Japan | Fujikin of America, Inc | 60 FR 54213 (October 20, 1995).
Stainless steel tube fittings with non-welded end connection, and other products from Taiwan | Top Line Process Equipment Corporation | 60 FR 54213 (October 20, 1995).
Primet joint metal seal fittings and primet joint weld fittings from Japan | Daido | 61 FR 5533 (February 13, 1996).
Sleeves of clean vacuum couplings and super-clean microfittings from Japan | Benkan | 61 FR 5533 (February 13, 1996).
Superclean fittings from Japan | Benkan UCT Corporation | 61 FR 40194 (August 1, 1996).

Determination

As a result of the determinations by the Department and the Commission that revocation of these antidumping duty orders would be likely to lead to continuation or recurrence of dumping and material injury to an industry in the United States, pursuant to section 751(d)(2) of the Act, the Department hereby orders the continuation of the antidumping duty orders on pipe and tube fittings from Japan, Korea, and Taiwan. The Department will instruct the U.S. Customs Service to continue to collect antidumping duty deposits at the rate in effect at the time of entry for all imports of subject merchandise. The effective date of continuation of these orders will be the date of publication in the Federal Register of this Notice of Continuation. Pursuant to sections 751(c)(2) and 751(c)(6) of the Act, the Department intends to initiate the next five-year review of these orders not later than February 2005.

Dated: February 29, 2000.
Joseph A. Spetrini,
Acting Assistant Secretary for Import Administration.

[FR Doc. 00-5373 Filed 3-3-00; 8:45 am]

BILLING CODE 3510-DS-P